DEPARTMENT OF THE INTERIOR

National Park Service

Notice of Inventory Completion: Oregon State University Department of Anthropology, Corvallis, OR

AGENCY: National Park Service, Interior.

ACTION: Notice.

Notice is here given in accordance with the Native American Graves Protection and Repatriation Act (NAGPRA), 25 U.S.C. 3003, of the completion of an inventory of human remains in the control of Oregon State University Department of Anthropology, Corvallis, OR. The human remains were removed from a mound site in central Illinois.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Oregon State University Department of Anthropology professional staff in consultation with representatives of the Ho-Chunk Nation of Wisconsin; Iowa Tribe of Kansas and Nebraska; Otoe-Missouria Tribe of Indians, Oklahoma; and Winnebago Tribe of Nebraska.

Between 1930 and 1959, human remains representing a minimum of one individual were removed from an unknown mound site in Illinois, by George Karl Neumann, a physical anthropologist working out of Indiana State University, Terre Haute, IN. In 1976, the Oregon State University Department of Anthropology acquired the Neumann Collection from Indiana State University. The human remains are identified in the collection records as a “Walcolid male.” No known individual was identified. No associated funerary objects are present.

Dr. Neumann collected human remains from several archeological projects with a focus on archeological mound sites, skeletal characteristics of Native American races, and general human physical variation and skeletal morphology. The culmination of this research is published as “Archaeology and Race in the American Indian,” in the 1952 Yearbook of Physical Anthropology Vol. 8. The Walcolid morphology type Dr. Neumann describes in this article references 45 “undeformed” specimens he excavated in the Spoon River Focus, central Illinois area that served as the basis for this type. The Neumann Collection contained numerous Native American human remains, the majority of which are from sites associated with Mound Builder cultures. The human remains are determined to be Native American based on skeletal morphology and collection records.

The Ho-Chunk Nation of Wisconsin, Iowa Tribe of Kansas and Nebraska, Otoe-Missouria Tribe of Indians, Oklahoma, and Winnebago Tribe of Nebraska have provided both written and oral history of their traditional occupation of Midwest areas east of the Mississippi and have demonstrated land area claims in Illinois. The Ho-Chunk Nation of Wisconsin, Iowa Tribe of Kansas and Nebraska, Iowa Tribe of Oklahoma, Otoe-Missouria Tribe of Indians, Oklahoma, and Winnebago Tribe of Nebraska traditionally occupied areas that have been demonstrated to include sites in Illinois. The tribes at one time constituted a single tribe with shared cultural affiliation. Specific published works cite the Ho-Chunk Nation of Wisconsin, Iowa Tribe of Kansas and Nebraska, Iowa Tribe of Oklahoma, Otoe-Missouria Tribe of Indians, Oklahoma; and Winnebago Tribe of Nebraska, as having villages in Illinois that included mound building cultural practices. Based on the preponderance of the evidence, including the primary body of Dr. Neumann's work in Illinois, and collection records, officials of the Oregon State University Department of Anthropology reasonably believe that the human remains are affiliated with the Ho-Chunk Nation of Wisconsin, Iowa Tribe of Kansas and Nebraska, Iowa Tribe of Oklahoma, Otoe-Missouria Tribe of Indians, Oklahoma, and Winnebago Tribe of Nebraska.

Officials of the Oregon State University Department of Anthropology have determined that, pursuant to 25 U.S.C. 3001 (9-10), the human remains described above represent the physical remains of one individual of Native American ancestry. Officials of the Oregon State University Department of Anthropology have also determined that, pursuant to 25 U.S.C. 3001 (2), there is a relationship of shared group identity that can be reasonably traced between the Native American human remains and the Ho-Chunk Nation of Wisconsin; Iowa Tribe of Kansas and Nebraska; Iowa Tribe of Oklahoma; Otoe-Missouria Tribe of Indians, Oklahoma; and Winnebago Tribe of Nebraska.

Representatives of any other Indian tribe that believes itself to be culturally affiliated with the human remains should contact Dr. David McMurray, Oregon State University Department of Anthropology, 238 Waldo Hall, Corvallis, OR 97331, telephone (541) 737-4515, before June 23, 2008. Repatriation of the human remains to the Ho-Chunk Nation of Wisconsin, Iowa Tribe of Kansas and Nebraska, and Winnebago Tribe of Nebraska may proceed after that date if no additional claimants come forward.

Oregon State University Department of Anthropology, Corvallis, Oregon is responsible for notifying the Cheyenne River Sioux Tribe of the Cheyenne River Reservation, South Dakota; Citizen Potawatomi Nation, Oklahoma; Delaware Nation, Oklahoma; Forest County Potawatomi Community, Wisconsin; Hannahville Indian Community, Michigan; Ho-Chunk Nation of Wisconsin; Iowa Tribe of Kansas and Nebraska; Iowa Tribe of Oklahoma; Kickapoo Tribe of Indians of the Kickapoo Reservation in Kansas; Kickapoo Tribe of Oklahoma; Oglala Sioux Tribe of the Pine Ridge Reservation, South Dakota; Otoe-Missouria Tribe of Indians, Oklahoma; Peoria Tribe of Indians of Oklahoma; Prairie Band of Potawatomi Nation, Kansas; Sac & Fox Nation of Missouri in Kansas and Nebraska; Sac & Fox Nation, Oklahoma; Sac & Fox Tribe of the Mississippi in Iowa; and Winnebago Tribe of Nebraska that this notice has been published.

Dated: April 7, 2008
Sherry Hutt,
Manager, National NAGPRA Program.

[FR Doc. E8-11590 Filed 5-22-08; 8:45 am]

BILLING CODE 4312-50-S